ELECTION ASSISTANCE COMMISSION

Sunshine Act Meetings

AGENCY: Election Assistance Commission.

ACTION: Sunshine Act notice; notice of public meeting agenda.

SUMMARY: Public Meeting: U.S. Election Assistance Commission Board of Advisors 2025 Annual Meeting.

DATES: Monday, May 5, 2025, 9 a.m.-5 p.m. ET, and Tuesday, May 6, 2025, 8:30-11:45 a.m. ET. Public registration for the event on or before May 2, 2025. Written comments should be received no later than 5 p.m. ET on May 2, 2025.

ADDRESSES: The meeting will be held in person at the Election Assistance Commission hearing room at 633 3rd St. NW, Washington, DC 20001.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b) and the Federal Advisory Committee Act (5 U.S.C. 10), the U.S. Election Assistance Commission (EAC) will conduct an annual meeting of the EAC Board of Advisors to conduct regular business, discuss EAC updates and upcoming programs, and other relevant election topics.

Agenda: The U.S. Election Assistance Commission (EAC) will hold its 2025 Board of Advisors Annual Meeting to conduct regular business, learn about EAC agency developments, and more. The board will also vote to elect members to Executive Officer positions.

Registration is required to attend. Members of the public should register by May 2, 2025, on the event page at eac.gov/events.

The EAC will only accept written comments and questions from members of the public. If you would like to participate, please email clearinghouse@eac.gov with your full name and question or comment no later than 5:00 p.m. ET on May 2, 2025.

Background: HAVA designates the Board of Advisors to assist EAC in carrying out its mandates under the law. The board consists of 35 members composed of representatives from specified associations, organizations, federal departments, and members of Congress.

The full agenda will be posted in advance on the EAC website: eac.gov/events.

Status: This meeting will be open to the public.

Camden Kelliher,
General Counsel, U.S. Election Assistance Commission.

[FR Doc. 2025-05830 Filed 4-1-25; 4:15 pm]

BILLING CODE 4810-71-P